Title 3—

The President

Proclamation 8336 of January 6, 2009

Establishment of the Pacific Remote Islands Marine National Monument

By the President of the United States of America

A Proclamation

The Pacific Remote Islands area consists of Wake, Baker, Howland, and Jarvis Islands, Johnston Atoll, Kingman Reef, and Palmyra Atoll, which lie to the south and west of Hawaii. With the exception of Wake Island, these islands are administered as National Wildlife Refuges by the United States Fish and Wildlife Service of the Department of the Interior. These refuges are an important part of the most widespread collection of marine- and terrestrial-life protected areas on the planet under a single country's jurisdiction. They sustain many endemic species including corals, fish, shellfish, marine mammals, seabirds, water birds, land birds, insects, and vegetation not found elsewhere.

Wake Island, to the west of Honolulu, Hawaii, is the northernmost atoll in the Marshall Islands geological ridge and perhaps the oldest living atoll in the world. Though it was substantially modified by the United States to create a military base before and after World War II, its major habitats are the three low coral islands consisting of shells, coral skeletons, and sand, supporting atoll vegetation adapted to arid climate. Wake Island supports 12 species of resident nesting seabirds and 6 species of migratory shorebirds, including 2 species of tropicbirds, 3 species of boobies, Great Frigatebird, Sooty Tern, Brown Noddy, and Wedge-tailed Shearwater. Black-footed Albatross and Laysan Albatross recently recolonized Wake Island, making it one of the few northern albatross colonies outside the Hawaiian archipelago.

Shallow coral reefs thrive around the perimeter of Wake Island. Fish populations are abundant and support at least 323 species, including large populations of the Napoleon wrasse (Chelinus), sharks of several species, and large schools of the Bumphead parrotfish (Bolbometapon), all of which are globally depleted. Beyond the shallow reefs, the outer reef slope descends sharply to great depths.

Baker, Howland, and Jarvis Islands were first formed as fringing reefs around islands formed by Cretaceous-era volcanoes (approximately 120-75 million years ago). As the volcanoes subsided, the coral reefs grew upward, maintaining proximity to the sea surface. These low coral islands consist of coral rock, shells, and sand that support trees, shrubs, and grasses adapted to the arid climate at the equator. All three are surrounded by shallow coral reefs to depths of 100 meters, below which the reef slope descends steeply to great depths. Deep coral forests occur below photic zones of all three islands at depths below 200 meters, especially at Jarvis where surveys have revealed living colonies of precious and ancient gold coral up to 5,000 years old.

The waters surrounding Baker, Howland, and Jarvis Islands have fish biomass double that of the Papahanaumokuakea Marine National Monument, and 16 times that of the main Hawaiian Islands, due to the Equatorial Undercurrent that moves from west to east along the equator, creating localized nutrient-rich upwellings in shallows next to the islands. These are three of only six islands in the entire Pacific Ocean where this phenomenon is possible. These islands are high in coral cover and biodiversity and are predator-dominated systems. Their biomass of top predators exceeds that of the Great Barrier Reef or Kenyan Marine Protected Areas. The islands now host about a dozen nesting bird species including several nesting and migratory bird species that are of conservation significance. Jarvis alone has nearly 3 million pairs of Sooty Terns. There are about 300 fish species found off the islands. Giant clams (Tridacna), Napoleon wrasses, and Bumphead parrotfish are common, and sharks of many species are especially abundant at Jarvis and commonly larger there than elsewhere. Endangered hawksbill turtle and threatened green turtles forage in nearshore waters. All three islands afford unique opportunities to conduct climate change research at the equator, far from population centers. The coral skeletons there have recorded the earth’s climatic history for many millions of years.

Johnston Atoll, the northernmost island in the island chain, is an ancient atoll and probably one of the oldest in the Pacific Ocean. Unlike most atolls, it does not have a surrounding barrier reef but has a semicircular emergent reef around the north and western margins of the island. Four major habitats characterize Johnston: low-lying islets consisting of the remains of corals and shells, shallow coral reefs to depths of 150 meters, deeper reefs to depths of 1,000 meters or more, and the slope of the ancient volcano on which the island rests.

Johnston is a genetic and larval stepping stone from the Remote Islands to the Hawaiian Islands for invertebrates, other reef fauna, corals, and dolphins. Despite its isolation, Johnston supports thriving communities of Table corals (Acropora) and a total of 45 coral species, including a dozen species confined to the Hawaiian and northern Line Islands. Some 300 species of reef fish are at Johnston, including the endemic Nahacky's pygmy angelfish. Many threatened, endangered, and depleted species thrive there, including the green turtle, hawksbill turtle, pearl oyster, giant clams, reef sharks, groupers, humphead wrasse, bumphead parrotfish, whales, and dolphins. Endangered Hawaiian Monk Seals occasionally visit the atoll. Deep diving submersible surveys have revealed that Johnston supports the deepest reef building corals (Leptoseris) on record and large populations of hydrozoan corals (Millepora, Distichopora, Staylaster). Land areas support large populations of migratory shorebirds and resident seabird species, including populations of regional, national, or international significance: Wedge-tailed Shearwaters, Christmas Shearwaters, Red-tailed Tropicbirds, Brown Boobies, Great Frigatebirds, Gray-backed Terns, and White Terns. Approximately 200 threatened Green turtles forage at Johnston. The surrounding waters are used by six depleted or endangered listed cetacean species: Sperm, Blue, Sei, Humpback, and North Pacific Right whales. Spinner dolphins are abundant, and endangered Humpback whales may calve there.

Palmyra Atoll is a classic Darwinian atoll that formed atop a sinking Cretaceous-era volcano. Kingman Reef formed in the same manner but is considered an atoll reef because it lacks permanent fast land areas or islands. Kingman Reef contains a sheltered lagoon that served as a way station for flying boats on Hawaii-to-American Samoa flights during the late 1930s. There are no terrestrial plants on the reef, which is frequently awash, but it does support abundant and diverse marine fauna and flora. Palmyra Atoll is managed by the United States Fish and Wildlife Service as a wildlife refuge. In 2001, the Secretary of the Interior established National Wildlife Refuges at Palmyra Atoll and Kingman Reef.

Palmyra Atoll and Kingman Reef are known to be among the most pristine coral reefs in the world, with a fully structured inverted food web. Kingman Reef is the most pristine of any reef under U.S. jurisdiction. They are ideal laboratories for assessing effects of climate change without the difficulty of filtering anthropogenic impacts. Both Palmyra Atoll and Kingman Reef support higher levels of coral and other cnidarian species diversity (180-190 species) than any other atoll or reef island in the central Pacific, twice as many as are found in Hawaii or Florida. Palmyra atoll has one of the best remaining examples of Pisonia grandis forest found in the Pacific region. This forest type has been lost or severely degraded over much of its range due to increased human population and development. Fish species diversity at Palmyra (418 species) is higher than, while that of Kingman (297 species) is comparable to, that of the other remote Pacific refuges. Many threatened, endangered, and depleted species thrive there, including the green and hawksbill turtle, pearl oyster, giant clams (the highest concentration in the Pacific Remote Island Area), reef sharks, Coconut crabs, groupers, humphead and Napoleon wrasse, bumphead parrotfish, and dolphins. Significant numbers of threatened green turtles forage at both atolls, especially at Palmyra; endangered Hawksbill sea turtles forage at both atolls. Large schools of rare Melon-headed whales reside off both atolls. A possibly new species of beaked whale was recently described from 2 specimens stranded at Palmyra and 1 at Christmas Island. Palmyra supports 11 nesting seabird species including the third-largest Red-footed Booby colony in the world. Large numbers of Bristle-thighed Curlews, a migratory shorebird of conservation significance, winter at Palmyra.

WHEREAS Wake, Baker, Howland, and Jarvis Islands, Johnston Atoll, Kingman Reef, and Palmyra Atoll and their surrounding waters contain objects of historic or scientific interest that are situated upon lands owned or controlled by the Government of the United States;

WHEREAS the Department of Defense has historically maintained facilities, defensive areas, and airspace reservations at Wake Island and Johnston Atoll;

WHEREAS the United States continues to act in accordance with the balance of interests relating to traditional uses of the oceans recognizing freedom of navigation and overflight and other internationally recognized lawful uses of the sea;

WHEREAS section 2 of the Act of June 8, 1906 (34 Stat. 225, 16 U.S.C. 431) (the “Antiquities Act”) authorizes the President, in his discretion, to declare by public proclamation historic landmarks, historic and prehistoric structures, and other objects of historic or scientific interest that are situated upon lands owned or controlled by the Government of the United States to be national monuments, and to reserve as a part thereof parcels of land, the limits of which in all cases shall be confined to the smallest area compatible with the proper care and management of the objects to be protected;

WHEREAS it is in the public interest to preserve the marine environment around the islands of Wake, Baker, Howland, and Jarvis Islands, Johnston Atoll, Kingman Reef, and Palmyra Atoll for the care and management of the historic and scientific objects therein:

NOW, THEREFORE, I, GEORGE W. BUSH, President of the United States of America, by the authority vested in me by section 2 of the Antiquities Act, do proclaim that there are hereby set apart and reserved as the Pacific Remote Islands Marine National Monument (the “monument” or “marine national monument”) for the purpose of protecting the objects identified above, all lands and interests in lands owned or controlled by the Government of the United States within the boundaries described below and depicted on the accompanying maps entitled “Pacific Remote Islands Marine National Monument” attached to and forming a part of this proclamation. The monument includes the waters and submerged and emergent lands of the Pacific Remote Islands to the lines of latitude and longitude depicted on the accompanying maps, which lie approximately 50 nautical miles from the mean low water lines of Wake, Baker, Howland, and Jarvis Islands, Johnston Atoll, Kingman Reef, and Palmyra Atoll. The Federal land and interests in land reserved consists of approximately 86,888 square miles, which is the smallest area compatible with the proper care and management of the objects to be protected.

All Federal lands and interests in lands within the boundaries of this monument are hereby withdrawn from all forms of entry, location, selection, sale, leasing, or other disposition under the public land laws to the extent that those laws apply. Lands and interests in lands within the monument not owned or controlled by the United States shall be reserved as a part of the monument upon acquisition of title or control by the United States.

Management of the Marine National Monument

The Secretary of the Interior, in consultation with the Secretary of Commerce, shall have responsibility for management of the monument, including out to 12 nautical miles from the mean low water lines of Wake, Baker, Howland, and Jarvis Islands, Johnston Atoll, Kingman Reef, and Palmyra Atoll, pursuant to applicable legal authorities. However, the Secretary of Defense shall continue to manage Wake Island, according to the terms and conditions of an Agreement between the Secretary of the Interior and Secretary of the Air Force, unless and until such Agreement is terminated. The Secretary of Commerce, through the National Oceanic and Atmospheric Administration, and in consultation with the Secretary of the Interior, shall have primary responsibility for management of the monument seaward of the area 12 nautical miles of the mean low water lines of Wake, Baker, Howland, and Jarvis Islands, Johnston Atoll, Kingman Reef, and Palmyra Atoll, with respect to fishery-related activities regulated pursuant to the Magnuson-Stevens Fishery Conservation and Management Act (16 U.S.C. 1801 et seq.) and any other applicable legal authorities. The Secretaries of Commerce and the Interior shall not allow or permit any appropriation, injury, destruction, or removal of any feature of this monument except as provided for by this proclamation and shall prohibit commercial fishing within boundaries of the monument.

The Secretaries of the Interior and of Commerce shall take appropriate action pursuant to their respective authorities under the Antiquities Act and the Magnuson-Stevens Fishery Conservation and Management Act, and such other authorities as may be available to implement this proclamation, to regulate fisheries, and to ensure proper care and management of the monument.

Regulation of Scientific Exploration and Research

Subject to such terms and conditions as the respective Secretary deems necessary for the care and management of the objects of this monument, the Secretary of the Interior may permit scientific exploration and research within the monument, including incidental appropriation, injury, destruction, or removal of features of this monument for scientific study, and the Secretary of Commerce may permit fishing within the monument for scientific exploration and research purposes to the extent authorized by the Magnuson-Stevens Fishery Conservation and Management Act. The prohibitions required by this proclamation shall not restrict scientific exploration or research activities by or for the Secretaries, and nothing in this proclamation shall be construed to require a permit or other authorization from the other Secretary for their respective scientific activities.

Regulation of Fishing and Management of Fishery Resources

The respective Secretaries may permit noncommercial fishing upon request, at specific locations in accordance with this proclamation. Noncommercial fishing opportunities currently allowed by the U.S. Fish and Wildlife Service at Palmyra Atoll may continue unless the Secretary of the Interior determines such fishing would not be compatible with the purposes of the Palmyra Atoll National Wildlife Refuge. The Secretary shall provide a process to ensure that recreational fishing shall be managed as a sustainable activity in certain areas of the monument, consistent with Executive Order 12962 of June 7, 1995, as amended, and other applicable law.

Monument Management Planning

The Secretaries of the Interior and Commerce shall, within 2 years of the date of this proclamation, prepare management plans within their respective authorities and promulgate implementing regulations that address any further specific actions necessary for the proper care and management of the objects identified in this proclamation at Baker, Howland, and Jarvis Islands, Kingman Reef, and Palmyra Atoll. The Secretaries shall revise and update the management plans as necessary. The Secretary of the Interior shall revise the management plan to incorporate measures for the management of Johnston Atoll within 2 years of the date that the Department of Defense terminates its use of Johnston Atoll. If the Secretary of the Air Force terminates the Agreement regarding its use of Wake Island, the Secretary of the Interior shall revise the management plan to incorporate Wake Island management within 2 years of the date that the Air Force terminates its use of Wake Island. In developing and implementing any management plans and any management rules and regulations, the Secretaries shall consult and designate and involve as cooperating agencies the agencies with jurisdiction or special expertise, including the Department of Defense, in accordance with the National Environmental Policy Act (42 U.S.C. 4321 et seq.,) its implementing regulations, and with Executive Order 13352, of August 26, 2004, Facilitation of Cooperative Conservation.

The management plans and their implementing regulations shall impose no restrictions on innocent passage in the territorial sea or otherwise restrict navigation and overflight and other internationally recognized lawful uses of the sea in the monument and shall incorporate the provisions of this proclamation regarding Armed Forces actions and compliance with international law.

This proclamation shall be applied in accordance with international law. No restrictions shall apply to or be enforced against a person who is not a citizen, national, or resident alien of the United States (including foreign flag vessels) unless in accordance with international law.

Emergencies, National Security, and Law Enforcement Activities

1. The prohibitions required by this proclamation shall not apply to activities necessary to respond to emergencies threatening life, property, or the environment, or to activities necessary for national security or law enforcement purposes.

2. Nothing in this proclamation shall limit agency actions to respond to emergencies posing an unacceptable threat to human health or safety or to the marine environment and admitting of no other feasible solution.

Armed Forces Actions

1. The prohibitions required by this proclamation shall not apply to activities and exercises of the Armed Forces (including those carried out by the United States Coast Guard).

2. The Armed Forces shall ensure, by the adoption of appropriate measures not impairing operations or operational capabilities, that its vessels and aircraft act in a manner consistent, so far as is reasonable and practicable, with this proclamation.

3. In the event of threatened or actual destruction of, loss of, or injury to a monument resource or quality resulting from an incident, including but not limited to spills and groundings, caused by a component of the Department of Defense or the United States Coast Guard, the cognizant component shall promptly coordinate with the Secretary of the Interior or Commerce, as appropriate, for the purpose of taking appropriate actions to respond to and mitigate any actual harm and, if possible, restore or replace the monument resource or quality.

4. Nothing in this proclamation or any regulation implementing it shall limit or otherwise affect the Armed Forces' discretion to use, maintain, improve, manage, or control any property under the administrative control of a Military Department or otherwise limit the availability of such property for military mission purposes, including, but not limited to, defensive areas and airspace reservations.

The establishment of this monument is subject to valid existing rights.

This proclamation is not intended to, and does not, create any right or benefit, substantive or procedural, enforceable at law or in equity, by any party against the United States, its agencies, instrumentalities, or entities, its officers, employees, agents, or any other person.

Nothing in this proclamation shall be deemed to revoke any existing withdrawal, reservation, or appropriation; however, the national monument shall be dominant over any other existing federal withdrawal, reservation, or appropriation.

Warning is hereby given to all unauthorized persons not to appropriate, excavate, injure, destroy, or remove any feature of this monument and not to locate or settle upon any lands thereof.

IN WITNESS WHEREOF, I have hereunto set my hand this sixth day of January, in the year of our Lord two thousand nine, and of the Independence of the United States of America the two hundred and thirty-third.

Billing code 3195-W9-P

[FR Doc. E9-500

Filed 1-9-09; 8:45 am]

Billing code 4310-10-C